DEPARTMENT OF AGRICULTURE

Forest Service

Ouachita National Forest; Scott and Sebastian Counties, Arkansas; Heavener Coal Leasing Project; Withdrawal of Notice of Intent To Prepare an Environmental Impact Statement

AGENCY: Forest Service, Agriculture (USDA).

ACTION: Notice; withdrawal.

SUMMARY: The Ouachita National Forest is withdrawing its notice of intent to prepare an environmental impact statement for the Heavener Coal Leasing Project. The original notice of intent was published in the Federal Register (FR Vol. 88, No. 246) on December 26, 2023. The Ouachita National Forest's decision to withdraw the notice of intent is based on the project proponent's (Ouro Mining Inc.) decision to withdraw their request for a lease of Federal metallurgical coal.

FOR FURTHER INFORMATION CONTACT: Questions concerning this notice should be directed to the Southern Region's Lead Executive for Energy and Infrastructure, Mike Donaldson, at michael.donaldson1@usda.gov or 404-556-1081. Individuals who use telecommunications devices for the hearing impaired may call 711 to reach the Telecommunications Relay Service, 24 hours a day, every day of the year, including holidays.

Keith Lannom,
Associate Deputy Chief, National Forest System.

[FR Doc. 2024-20341 Filed 9-9-24; 8:45 am]

BILLING CODE 3411-15-P